DEPARTMENT OF JUSTICE

Drug Enforcement Administration

John F. Hildebrand, M.D.; Revocation of Registration

On May 5, 2003, the Deputy Assistant Administrator, Office of Diversion Control, Drug Enforcement Administration (DEA), issued an Order to Show Cause to John F. Hildebrand, M.D. (Dr. Hildebrand) of Elk Grove, California, notifying him of an opportunity to show cause as to why DEA should not revoke his DEA Certificate of Registration, AH5626099 under 21 U.S.C. 824(a) and deny any pending applications for renewal or modification of that registration. As a basis for revocation, the Order to Show Cause alleged that Dr. Hildebrand is not currently authorized to practice medicine or handle controlled substances in California, his state of registration and practice. The order also notified Dr. Hildebrand that should no request for a hearing be filed within 30 days, his hearing right would be deemed waived.

The Order to Show Cause was sent by certified mail to Dr. Hildebrand at his registered location at 9410 Elk Grove-Florin Road, Elk Grove, California. According to the return receipt, on or around June 6, 2003, the Order was accepted on Dr. Hildebrand's behalf. By his letter of June 30, 2003, Dr. Hildebrand advised the Hearing Clerk in DEA's Office of Administrative Law Judges that he wished to waive his right to a hearing in this matter. In that letter Dr. Hildebrand also asked that DEA delay revoking his certificate of registration until an appeal of the state board's revocation of his medical license was adjudicated. However, Dr. Hildebrand proffered no legal basis for delaying action on this matter and the Acting Deputy Administrator finds he affirmatively waived his hearing right. Accordingly, after considering material from the investigative file, the Acting Deputy Administrator now enters her final order without a hearing pursuant to 21 CFR 1301.43(d) and (e) and 1301.46.

The Acting Deputy Administrator finds that Dr. Hildebrand possesses DEA Certificate of Registration AH5626099, which expired on October 31, 2003. The Acting Deputy Administrator further finds that the Medical Board of California (the Board) filed an accusation against Dr. Hildebrand alleging, inter alia, that he engaged in sexual abuse/misconduct with a patient and gross negligence, in violation of California Business and Professions Code, sections 726 and 2234(b).

During June 2001, an eight day hearing was held before an Administrative Law Judge from the Office of Administrative Hearings, State of California. The Administrative Law Judge issued a Proposed Decision sustaining the relevant accusations and recommending that Dr. Hildebrand's California Physician and Surgeon's license be revoked. On July 30, 2001, the Board approved the Administrative Law Judge's Proposed Decision and issued its Decision, effective August 29, 2001, revoking Dr. Hildebrand's license to practice medicine in the State of California for an indefinite period. On August 24, 2001, Dr. Hildebrand obtained an ex parte temporary stay of the Board's action from the Hon. Ronald B. Robie of the Sacramento County Superior Court so that the court could review the submitted documents. On September 20, 2001, the court lifted the stay and the Board's Revocation Order took effect.

The investigative file contains no evidence that the Board's Decision has been further stayed, that an appeal has been adjudicated adversely to the Board or that Dr. Hildebrand's medical license has been reinstated. Therefore, the Acting Deputy Administrator finds that Dr. Hildebrand is not currently authorized to practice medicine in the State of California. As a result, it is reasonable to infer that he is also without authorization to handle controlled substances in that state.

DEA does not have statutory authority under the Controlled Substances Act to issue or maintain a registration if the applicant or registrant is without state authority to handle controlled substances in the state in which he conducts business. See 21 U.S.C. 802(21), 823(f) and 824(a)(3). This prerequisite has been consistently upheld. See Muttaiya Darmarajeh, M.D., 66 FR 52936 (2001); Dominick A. Ricci, M.D., 58 FR 51104 (1993); Bobby Watts, M.D., 53 FR 11919 (1988).

Here, it is clear that Dr. Hildebrand's medical license has been revoked and he is not licensed to handle controlled substances in the State of California, where he is registered with DEA. Therefore, he is not entitled to a DEA registration in that state.

Accordingly, the Acting Deputy Administrator of the Drug Enforcement Administration, pursuant to the authority vested in her by 21 U.S.C. 823 and 824 and 28 CFR 0.100(b) and 0.104, hereby orders that DEA Certificate of Registration AH5626099, issued to John F. Hildebrand, M.D., be, and it hereby is, revoked. The Acting Deputy Administrator further orders that any pending applications for renewal of such registration be, and they hereby are, denied. This order is effective February 9, 2004.

Dated: December 18, 2003.
Michele M. Leonhart,
Acting Deputy Administrator.

[FR Doc. 04-344 Filed 1-7-04; 8:45 am]

BILLING CODE 4410-09-M